DEPARTMENT OF HEALTH AND HUMAN SERVICES

Centers for Disease Control and Prevention

Advisory Committee on Immunization Practices (ACIP)

AGENCY: Centers for Disease Control and Prevention (CDC), Department of Health and Human Services (HHS).

ACTION: Notice of meeting.

SUMMARY: In accordance with the Federal Advisory Committee Act, the Centers for Disease Control and Prevention (CDC), announces the following meeting of the Advisory Committee on Immunization Practices (ACIP). This meeting is open to the public, limited only by room seating. The meeting room accommodates 216 for public seating. Rooms 245, 246, and 247, adjacent to the meeting room, will be available once the meeting room reaches capacity, providing up to 120 additional seats. Time will be available for public comment. The meeting will be webcast live via the World Wide Web; for instructions and more information on ACIP please visit the ACIP website: http://www.cdc.gov/vaccines/acip/index.html.

DATES: The meeting will be held on February 27, 2019, 8:00 a.m. to 5:30 p.m., EST, and February 28, 2019, 8:30 a.m. to 3:30 p.m. EST.

ADDRESSES: CDC, 1600 Clifton Road, NE, Tom Harkin Global Communications Center, Building 19, Kent `Oz' Nelson Auditorium, Atlanta, Georgia 30329-4027.

FOR FURTHER INFORMATION CONTACT: Stephanie Thomas, ACIP Committee Management Specialist, CDC, NCIRD, telephone 404-639-8836, email ACIP@cdc.gov.

SUPPLEMENTARY INFORMATION:

Purpose: The committee is charged with advising the Director, CDC, on the use of immunizing agents. In addition, under 42 U.S.C. 1396s, the committee is mandated to establish and periodically review and, as appropriate, revise the list of vaccines for administration to vaccine-eligible children through the Vaccines for Children (VFC) program, along with schedules regarding dosing interval, dosage, and contraindications to administration of vaccines. Further, under provisions of the Affordable Care Act, section 2713 of the Public Health Service Act, immunization recommendations of the ACIP that have been approved by the Director of the Centers for Disease Control and Prevention and appear on CDC immunization schedules must be covered by applicable health plans.

Public Comment

Oral Public Comment: This meeting will include one 75-minute session for oral public comment during which members of the public may make an in-person public comment. The oral public comment session will occur near the end of the first day's session on February 27, 2019 and before any scheduled votes including all votes relevant to the ACIP's Affordable Care Act and Vaccines for Children Program roles. Priority will be given to individuals who submit a request to make an oral public comment before the meeting according to the procedures below. On-site, in-person registration for oral public comment at the meeting will only be available if there is time remaining in the oral public comment session after all individuals who submitted a request to make an oral comment before the meeting have had an opportunity to speak. There is no guarantee there will be an opportunity for on-site, in-person registration for oral public comment, and all individuals interested in requesting to make an oral public comment are strongly encouraged to submit a request according to the instructions below.

Procedure for Oral Public Comment: All persons interested in making an oral public comment at the February ACIP meeting must submit a request at http://www.cdc.gov/vaccines/acip/meetings/ no later than 11:59 p.m., EDT, February 13, 2019. Interested persons must include their name; the name of the group or organization the individual is representing, if applicable; and contact information, including email address, mailing address, and telephone number.

If the number of persons requesting to speak is greater than can be reasonably accommodated during the scheduled 75-minute oral public comment session, CDC will conduct a lottery to determine the speakers for the scheduled session. CDC staff will notify individuals regarding their request to speak by email by February 15, 2019. To accommodate the significant interest in participation in the oral public comment session of ACIP meetings, each speaker will be limited to 3 minutes, and each speaker may only speak once per meeting. Interested persons who are unable to make an oral public comment during this meeting are invited to submit a written comment according to the instructions below.

Written Public Comment: Written comments will be accepted up to 48 hours following the end of the ACIP Meeting. You may submit comments, identified by Docket No. CDC-201x-xxxx using the Federal eRulemaking Portal: http://www.regulations.gov. Follow the instructions for submitting comments. All submissions received must include the agency name and Docket Number. All relevant comments received in conformance with the regulations.gov suitability policy will be posted without change to http://regulations.gov, including any personal information provided. For access to the docket to read background documents or comments received, go to http://www.regulations.gov. Written public comments submitted by 72 hours prior to the ACIP meeting will be provided to the ACIP members before the meeting.

Matters to be Considered: The agenda will include discussions on human papillomavirus vaccines, pneumococcal vaccines, Japanese encephalitis vaccines, influenza vaccines, anthrax vaccine, hepatitis vaccines, Pertussis vaccine, herpes zoster vaccine, and meningococcal vaccines. A recommendation vote is scheduled for anthrax vaccine, Japanese encephalitis vaccines, and human papillomavirus vaccines. Agenda items are subject to change as priorities dictate. For more information on the meeting agenda visit https://www.cdc.gov/vaccines/acip/meetings/meetings-info.html.

The Chief Operating Officer, Centers for Disease Control and Prevention, has been delegated the authority to sign Federal Register notices pertaining to announcements of meetings and other committee management activities, for both the Centers for Disease Control and Prevention and the Agency for Toxic Substances and Disease Registry.

Sherri A. Berger,
Chief Operating Officer, Centers for Disease Control and Prevention.

[FR Doc. 2019-00197 Filed 1-25-19; 8:45 am]

BILLING CODE 4163-18-P